Proclamation 9075 of December 31, 2013

National Stalking Awareness Month, 2014

By the President of the United States of America

A Proclamation

Each January, we draw attention to a crime that will affect 1 in 6 American women at some point in their lives. Although young women are disproportionately at risk, anyone can be a victim of stalking—regardless of age, sex, background, or gender identity. While many victims are stalked by ex-partners, sometimes the perpetrators are acquaintances or even strangers. During National Stalking Awareness Month, we extend our support to victims and renew our commitment to holding their stalkers accountable.

Stalkers seek to intimidate their victims through repeated unwanted contact, including harassing phone calls, text messages, or emails. Cyberstalking is increasingly prevalent, with more than one quarter of stalking victims reporting being harassed through the Internet or electronically monitored. Many victims suffer from anxiety, depression, and insomnia, and some are forced to move or change jobs. Stalking all too often goes unreported, yet it also tends to escalate over time, putting victims at risk of sexual assault, physical abuse, or homicide.

My Administration remains dedicated to pursuing justice for victims of stalking and ensuring survivors receive the support they need. Last March, I was proud to sign the Violence Against Women Reauthorization Act. Every time we renew this landmark legislation, we improve it, and this time was no exception. This renewal expanded protections for Native American and lesbian, gay, bisexual, and transgender victims of stalking, domestic violence, and sexual assault. It amended the Clery Act to require colleges to report crime statistics on stalking, continued to allow relief for immigrant victims, and strengthened support and training programs that have proven effective in helping law enforcement bring offenders to justice.

We also stand behind the tireless advocates who provide essential services to victims. Along with law enforcement, prosecutors, court personnel, and survivors, these devoted women and men are links in a chain that has made a difference—one person, one family, one case at a time. This month, let us resolve to strengthen this chain, bring stalkers to justice, and give hope to everyone who has suffered from this crime.

NOW, THEREFORE, I, BARACK OBAMA, President of the United States of America, by virtue of the authority vested in me by the Constitution and the laws of the United States, do hereby proclaim January 2014 as National Stalking Awareness Month. I call upon all Americans to recognize the signs of stalking, acknowledge stalking as a serious crime, and urge those affected not to be afraid to speak out or ask for help. Let us also resolve to support victims and survivors, and to create communities that are secure and supportive for all Americans.

IN WITNESS WHEREOF, I have hereunto set my hand this thirty-first day of December, in the year of our Lord two thousand thirteen, and of the Independence of the United States of America the two hundred and thirty-eighth.

[FR Doc. 2014-00087

Filed 1-6-14; 8:45 am]

Billing code 3295-F4